SMALL BUSINESS ADMINISTRATION

[Disaster Declaration #13305 and #13306]

New Jersey Disaster #NJ-00031

AGENCY: U.S. Small Business Administration.

ACTION: Notice.

SUMMARY: This is a notice of an Administrative declaration of a disaster for the State of New Jersey dated 09/21/2012.

Incident: Severe Storms and significant Straight-line Winds.

Incident Period: 06/30/2012.

Effective Date: 09/21/2012.

Physical Loan Application Deadline Date: 11/20/2012.

Economic Injury (EIDL) Loan Application Deadline Date: 06/21/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Atlantic.

Contiguous Counties:

New Jersey: Burlington, Camden, Cape May, Cumberland, Gloucester, Ocean.

The Interest Rates are:

| Percent
For Physical Damage:
Homeowners With Credit Available Elsewhere | 3.875
Homeowners Without Credit Available Elsewhere | 1.938
Businesses With Credit Available Elsewhere | 6.000
Businesses Without Credit Available Elsewhere | 4.000
Non-Profit Organizations With Credit Available Elsewhere | 3.125
Non-Profit Organizations Without Credit Available Elsewhere | 3.000
For Economic Injury:
Businesses & Small Agricultural Cooperatives Without Credit Available Elsewhere | 4.000
Non-Profit Organizations Without Credit Available Elsewhere | 3.000

The number assigned to this disaster for physical damage is 13305 B and for economic injury is 13306 0.

The State which received an EIDL Declaration # is New Jersey.

(Catalog of Federal Domestic Assistance Numbers 59002 and 59008)

Dated: September 21, 2012.
Karen G. Mills,
Administrator.

[FR Doc. 2012-24127 Filed 9-28-12; 8:45 am]

BILLING CODE 8025-01-P